DEPARTMENT OF THE INTERIOR

Minerals Management Service

Agency Information Collection Activities: Submitted for Office of Management and Budget (OMB) Review; Comment Request

AGENCY: Minerals Management Service (MMS), Interior.

ACTION: Notice of extension of an information collection (1010-0006).

SUMMARY: To comply with the Paperwork Reduction Act of 1995 (PRA), MMS is notifying the public that we have submitted to OMB an information collection request (ICR) to renew approval of the paperwork requirements in the regulations under “30 CFR 256, Leasing of Sulphur or Oil and Gas in the Outer Continental Shelf,” and related forms. This notice also provides the public a second opportunity to comment on the paperwork burden of these regulatory requirements.

DATES: Submit written comments by February 26, 2004.

ADDRESSES: You may submit comments either by fax (202) 395-6566 or e-mail (OIRA_DOCKET@omb.eop.gov) directly to the Office of Information and Regulatory Affairs, OMB, Attention: Desk Officer for the Department of the Interior (1010-0006). Mail or hand carry a copy of your comments to the Department of the Interior; Minerals Management Service; Attention: Rules Processing Team; Mail Stop 4024; 381 Elden Street; Herndon, Virginia 20170-4817. If you wish to e-mail your comments to MMS, the address is: rules.comments@mms.gov. Reference Information Collection 1010-0006 in your subject line and mark your message for return receipt. Include your name and return address in your message text.

FOR FURTHER INFORMATION CONTACT: Arlene Bajusz, Rules Processing Team (703) 787-1600. You may also contact Arlene Bajusz to obtain a copy, at no cost, of the regulations and forms that require the subject collection of information.

SUPPLEMENTARY INFORMATION: Title: 30 CFR 256, Leasing of Sulphur or Oil and Gas in the Outer Continental Shelf.

OMB Control Number: 1010-0006.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. The Energy Policy and Conservation Act of 1975 (EPCA) prohibits certain lease bidding arrangements (42 U.S.C. 6213 (c)).

The Independent Offices Appropriations Act of 1952 (IOAA), 31 U.S.C. 9701, authorizes Federal agencies to recover the full cost of services that provide special benefits. Under the Department of the Interior's (DOI) policy implementing the IOAA, MMS is required to charge the full cost for services that provide special benefits or privileges to an identifiable non-Federal recipient above and beyond those that accrue to the public at large. Instruments of transfer of a lease or interest are subject to cost recovery, and MMS regulations specify filing fees for these transfer applications.

The MMS uses the information required by 30 CFR 256 to determine if applicants are qualified to hold leases in the OCS. Specifically, MMS uses the information to:

• Verify the qualifications of a bidder on an OCS lease sale. Once the required information is filed with MMS, a qualification number is assigned to the bidder so that duplicate information is not required on subsequent filings.

• Develop the semiannual List of Restricted Joint Bidders. This identifies parties ineligible to bid jointly with each other on OCS lease sales, under limitations established by the EPCA.

• Ensure the qualification of assignees. Once a lease is awarded, the transfer of a lessee's interest to another qualified party must be approved by an MMS regional director.

• Obtain information and nominations on oil and gas leasing, exploration, and development and production. Early planning and consultation ensure that all interests and concerns are communicated to us for future decisions in the leasing process.

• Document that a leasehold or geographical subdivision has been surrendered by the record title holder.

• Verify that lessees have adequate bonding coverage. Respondents must submit their bonds certification forms: Form MMS-2028, “Outer Continental Shelf Mineral Lessee's and Operator's Bond,” and Form MMS-2028A, “Outer Continental Shelf Mineral Lessee's and Operator's Supplemental Plugging & Abandonment Bond.” The MMS uses these documents to hold the surety libel for the obligations and liability of the principal/lessee or operator.

Frequency: The frequency of reporting is annual and on occasion.

Estimated Number and Description of Respondents: Approximately 130 Federal OCS oil and gas or sulphur lessees, as well as the affected States and local governments.

Estimated Reporting and Recordkeeping “Hour” Burden: The estimated annual “hour” burden for this information collection is a total of 19,668 hours. The following chart details the individual components and estimated hour burdens. In calculating the burdens, MMS assumed that respondents perform certain requirements in the normal course of their activities. We consider these to be usual and customary and took that into account in estimating the burden.

Citation 30 CFR part 256 | Reporting requirement | Hour burden | Average number annual responses | Annual burden hours
Subparts A, C, E, H, L, M | None | Not applicable |  | 0
Subparts G, H, I, J: 256.37, 256.53, 256.68, 256.70, 256.71, 256.72, 256.73 | Request approval for various operations or submit plans or applications | Burden included with other approved collections in 30 CFR Part 250 (1010-0049, 1010-0114, 1010-0058, 1010-0141, 1010-0142) |  | 0
Subpart B: 256.16, 256.17, 256.20 Subpart D: All sections. | Submit response to request/call for information, comments, and interest in areas for mineral leasing, including information from States/local governments | 4 | 1 response | 4
Subpart F: 256.31 | States or local governments submit comments/recommendations on size, timing or location of proposed lease sale | 4 | 10 responses | 40
Subpart G: 256.35, 256.46(d), (e) | Establish a Company File for qualification; submit updated information, submit qualifications for lessee/bidder, request exception | 2 | 495 responses | 990
256.41, 256.43, 256.46(g) | Submit qualification of bidders for joint bids and statement or report of production/appeal | 2 | 200 responses | 400
256.44, 246.46 | Submit bids and required information | 5 | 2,000 bids | 10,000
256.47(c) | File agreement to accept joint lease on tie bids | 3½ | 2 agreements | 7
256.47(e)(1), (e)(3) | Request for reconsideration of bid rejection | Exempt as defined in 5 CFR 1320.3(h)(9). |  | 0
256.47(f), (i), 256.50 | Execute lease (includes submission of evidence of authorized agent and request for dating of leases) | 1 | 852 leases | 852
Subpart I: 256.54 | OCS Mineral Lessee's and Operator's Bond (form MMS-2028) | ¼ | 228 forms | 57
256.54 | OCS Mineral Lessee's and Operator's Supplemental Plugging & Abandonment Bond (form MMS-2028A) | ¼ | 162 forms | *41
256.52(f(2), (g)(2) | Submit authority for Regional Director to sell Treasury or alternate type of securities | 2 | 10 submissions | 20
256.53(c), (d), (f); 256.54(d)(3) | Demonstrate financial worth/ability to carry out present and future financial obligations, request approval of another form of security, or request reduction in amount of supplemental bond required | 3½ | 165 submissions | *578
256.55 | Notify MMS of any lapse in previous bond/action filed alleging lessee, surety, or guarantor is insolvent or bankrupt | 1 | 3 notices | 3
256.56 | Provide plan/instructions to fund lease-specific abandonment account and related information; request approval to withdraw funds | 12 | 7 submissions | 84
256.57 | Provide third-party guarantee, indemnity agreement, financial information, related notices, and annual update; notify MMS if guarantor becomes unqualified | 19 | 32 submissions | 608
256.57(d)(3), 256.58 | Notice of and request approval to terminate period of liability, cancel bond, or other security | ½ | 305 requests | *153
256.59(c)(2) | Provide information to demonstrate lease will be brought into compliance | 16 | 5 responses | 80
Subpart J: 256.62, 256.64, 256.65, 256.67 | File application and required information for assignment or transfer for approval/comment on filing fee | 1 | 2,725 applications | 2,725
256.64(a)(7) | File required instruments creating or transfering working interests, etc., for record purposes | 1 | 2,738 filings | 2,738
256.64(a)(8) | Submit non-required documents, for record purposes, which respondents want MMS to file with the lease document | Accepted on behalf of lessees as a service, but MMS does not require nor need the filings. |  | 0
Subpart K: 256.76 | File written request for relinquishment | 1 | 275 relinquishments | 275
256.77(c) | Comment on lease cancellation (MMS expects 1 in 10 years) | 1 | 1 | 1
All Subparts | General departure and alternative compliance requests not specifically covered elsewhere in Part 256 | 4 | 3 | 12
Total Reporting |  | 10,219 Responses |  | 19,668
*Rounded.

Estimated Reporting and Recordkeeping “Non-Hour Cost” Burden: The estimated “non-hour cost” burden for this information collection is a total of $577,575 rounded to $578,000. This cost burden is for filing fees associated with submitting requests for approval of instruments of transfer ($185 per application) or to file nonrequired documents for record purposes ($25 per filing) according to § 256.64(a)(8).

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 10, 2003, MMS published a Federal Register notice (68 FR 53390) announcing that we would submit this ICR to OMB for approval. The notice provided the required 60-day comment period. In addition, § 256.0 provides the OMB control number for the information collection requirements imposed by the 30 CFR 256 regulations. The regulation also informs the public that they may comment at any time on the collections of information and provides the address to which they should send comments. MMS has received no comments in response to these efforts.

If you wish to comment in response to this notice, you may send your comments to the offices listed under the ADDRESSES section of this notice. OMB has up to 60 days to approve or disapprove the information collection but may respond after 30 days. Therefore, to ensure maximum consideration, OMB should receive public comments by February 26, 2004.

Public Comment Policy: MMS's practice is to make comments, including names and home addresses of respondents, available for public review during regular business hours. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Federal Register Liaison Officer: Denise Johnson (202) 208-3976.

Dated: December 5, 2003.
E.P. Danenberger,
Chief, Engineering and Operations Division.

[FR Doc. 04-1730 Filed 1-26-04; 8:45 am]

BILLING CODE 4310-MR-P